DEPARTMENT OF ENERGY

Federal Energy Regulatory Commission

Combined Notice of Filings

Take notice that the Commission has received the following Natural Gas Pipeline Rate and Refund Report filings:

Filings Instituting Proceedings

Docket Numbers: RP18-749-000.

Applicants: Equitrans, L.P.

Description: § 4(d) Rate Filing: Negotiated Rate Service Agreement—Mercuria LPS 5/1/2018 to be effective 5/1/2018.

Filed Date: 4/30/18.

Accession Number: 20180430-5022.

Comments Due: 5 p.m. ET 5/14/18.

Docket Numbers: RP18-750-000.

Applicants: Gulf South Pipeline Company, LP.

Description: § 4(d) Rate Filing: Remove Expired Agmts from Tariff eff 5/1/2018 to be effective 5/1/2018.

Filed Date: 4/30/18.

Accession Number: 20180430-5081.

Comments Due: 5 p.m. ET 5/14/18.

Docket Numbers: RP18-751-000.

Applicants: Cheyenne Plains Gas Pipeline Company, L.L.C.

Description: § 4(d) Rate Filing: Fuel and EPC Update Filing to be effective 6/1/2018.

Filed Date: 4/30/18.

Accession Number: 20180430-5083.

Comments Due: 5 p.m. ET 5/14/18.

Docket Numbers: RP18-752-000.

Applicants: El Paso Natural Gas Company, L.L.C.

Description: § 4(d) Rate Filing: Negotiated Rate Agreement Update (Conoco Redes May 18) to be effective 5/1/2018.

Filed Date: 4/30/18.

Accession Number: 20180430-5102.

Comments Due: 5 p.m. ET 5/14/18.

Docket Numbers: RP18-753-000.

Applicants: Natural Gas Pipeline Company of America.

Description: § 4(d) Rate Filing: Amendment to Negotiated Rate Agreememt—DTE Energy to be effective 5/1/2018.

Filed Date: 4/30/18.

Accession Number: 20180430-5104.

Comments Due: 5 p.m. ET 5/14/18.

Docket Numbers: RP18-754-000.

Applicants: Wyoming Interstate Company, L.L.C.

Description: § 4(d) Rate Filing: Quarterly FL&U Update to be effective 6/1/2018.

Filed Date: 4/30/18.

Accession Number: 20180430-5173.

Comments Due: 5 p.m. ET 5/14/18.

Docket Numbers: RP18-755-000.

Applicants: El Paso Natural Gas Company, L.L.C.

Description: § 4(d) Rate Filing: Negotiated Rate Agreement Filing (Centennial May 18) to be effective 5/1/2018.

Filed Date: 4/30/18.

Accession Number: 20180430-5218.

Comments Due: 5 p.m. ET 5/14/18.

Docket Numbers: RP18-756-000.

Applicants: El Paso Natural Gas Company, L.L.C.

Description: § 4(d) Rate Filing: Negotiated Rate Agreement Filing (MRC Permian May 18) to be effective 5/1/2018.

Filed Date: 4/30/18.

Accession Number: 20180430-5227.

Comments Due: 5 p.m. ET 5/14/18.

Docket Numbers: RP18-757-000.

Applicants: Transcontinental Gas Pipe Line Company.

Description: § 4(d) Rate Filing: Negotiated Rates—Cherokee AGL—Replacement Shippers—May 2018 to be effective 5/1/2018.

Filed Date: 4/30/18.

Accession Number: 20180430-5238.

Comments Due: 5 p.m. ET 5/14/18.

Docket Numbers: RP18-758-000.

Applicants: Kern River Gas Transmission Company.

Description: § 4(d) Rate Filing: 2018 May Negotiated Rate Agreements to be effective 5/1/2018.

Filed Date: 4/30/18.

Accession Number: 20180430-5285.

Comments Due: 5 p.m. ET 5/14/18.

Docket Numbers: RP18-759-000.

Applicants: Rockies Express Pipeline LLC.

Description: § 4(d) Rate Filing: Neg Rate 2018-04-30 E2W 5 Ks to be effective 5/1/2018.

Filed Date: 4/30/18.

Accession Number: 20180430-5339.

Comments Due: 5 p.m. ET 5/14/18.

Docket Numbers: RP18-760-000.

Applicants: Texas Eastern Transmission, LP.

Description: § 4(d) Rate Filing: Negotiated Rates for NJR ES effective 5/1/2018 to be effective 5/1/2018.

Filed Date: 4/30/18.

Accession Number: 20180430-5348.

Comments Due: 5 p.m. ET 5/14/18.

Docket Numbers: RP18-761-000.

Applicants: Rockies Express Pipeline LLC.

Description: § 4(d) Rate Filing: Neg Rate 2018-04-30 CP to be effective 5/1/2018.

Filed Date: 4/30/18.

Accession Number: 20180430-5357.

Comments Due: 5 p.m. ET 5/14/18.

Docket Numbers: RP18-762-000.

Applicants: El Paso Natural Gas Company, L.L.C.

Description: § 4(d) Rate Filing: Clarifications to Request for Services and Pro Formas Filing to be effective 6/1/2018.

Filed Date: 4/30/18.

Accession Number: 20180430-5350.

Comments Due: 5 p.m. ET 5/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2018.
Nathaniel J. Davis, Sr.,
Deputy Secretary.

[FR Doc. 2018-09619 Filed 5-4-18; 8:45 am]

BILLING CODE 6717-01-P